Proclamation 8934 of February 28, 2013

Irish-American Heritage Month, 2013

By the President of the United States of America

A Proclamation

For more than two centuries, America has been made and remade by striving, hopeful immigrants looking for a chance to pursue their dreams. Millions among them were born in Ireland, separated from our shores but united by their belief in a better day. This month, we celebrate the Irish-American journey, and we reflect on the ways a nation so small has inspired so much in another.

Generations of Irish left the land of their forebears to cast their fortunes with a young Republic. Escaping the blight of famine or the burden of circumstance, many found hardship even here. They endured prejudice and stinging ridicule. But through it all, these new citizens never gave up on one of our oldest ideas: that anyone from anywhere can write the next great chapter in the American story. So they raised families and built communities, earned a living and sent their kids to school. In time, what it meant to be Irish helped define what it means to be American. And as they did their part to make this country stronger, Irish Americans shared in its success, retaining the best of their heritage and passing it down to their children.

That familiar story has been lived and cherished by Americans from all backgrounds, and it reaffirms our identity as a Nation of immigrants from all around the world. So as we celebrate Irish-American Heritage Month, let us retell those stories of sweat and striving. And as two nations united by people and principle, may America and Ireland always continue to move forward together in common purpose.

NOW, THEREFORE, I, BARACK OBAMA, President of the United States of America, by virtue of the authority vested in me by the Constitution and the laws of the United States, do hereby proclaim March 2013 as Irish-American Heritage Month. I call upon all Americans to observe this month with appropriate ceremonies, activities, and programs.

IN WITNESS WHEREOF, I have hereunto set my hand this twenty-eighth day of February, in the year of our Lord two thousand thirteen, and of the Independence of the United States of America the two hundred and thirty-seventh.

[FR Doc. 2013-05293

Filed 3-5-13; 8:45 am]

Billing code 3295-F3